DEPARTMENT OF ENERGY

Federal Energy Regulatory Commission

Combined Notice of Filings #1

Take notice that the Commission received the following exempt wholesale generator filings:

Docket Numbers: EG19-81-000.

Applicants: High Lonesome Mesa Wind, LLC.

Description: Notice of Self-Certification of Exempt Wholesale Generator Status of High Lonesome Mesa Wind, LLC.

Filed Date: 3/19/19.

Accession Number: 20190319-5174.

Comments Due: 5 p.m. ET 4/9/19.

Take notice that the Commission received the following electric rate filings:

Docket Numbers: ER16-38-005.

Applicants: Kingbird Solar A, LLC.

Description: Compliance filing: Kingbird Solar A Supplemental Notice of Tariff Update to be effective 3/19/2019.

Filed Date: 3/19/19.

Accession Number: 20190319-5164.

Comments Due: 5 p.m. ET 4/9/19.

Docket Numbers: ER19-688-001.

Applicants: Southern California Edison Company.

Description: Tariff Amendment: SCE's Response to Deficiency re Amended Agreement Harbor Cogeneration Company to be effective 12/21/2018.

Filed Date: 3/20/19.

Accession Number: 20190320-5056.

Comments Due: 5 p.m. ET 4/10/19.

Docket Numbers: ER19-1047-002.

Applicants: VESIVEC LLC.

Description: Tariff Amendment: Second Supplement to MBRA Tariff to be effective 3/21/2019.

Filed Date: 3/20/19.

Accession Number: 20190320-5109.

Comments Due: 5 p.m. ET 4/10/19.

Docket Numbers: ER19-1383-000.

Applicants: PJM Interconnection, L.L.C.

Description: Tariff Cancellation: Notice of Cancellation of WMPA/SA No. 4505; Queue No. Z2-097 to be effective 5/2/2019.

Filed Date: 3/19/19.

Accession Number: 20190319-5157.

Comments Due: 5 p.m. ET 4/9/19.

Docket Numbers: ER19-1384-000.

Applicants: MidAmerican Central California Transco, LLC.

Description: Application for Authorization under Section 205 of the Federal Power Act of MidAmerican Central California Transco, LLC.

Filed Date: 3/19/19.

Accession Number: 20190319-5166.

Comments Due: 5 p.m. ET 4/9/19.

Docket Numbers: ER19-1385-000.

Applicants: AEP Texas Inc.

Description: § 205(d) Rate Filing: AEPTX-Woodward Mountain Wind I Interconnection Agreement Second Amd & Restated to be effective 3/5/2019.

Filed Date: 3/20/19.

Accession Number: 20190320-5036.

Comments Due: 5 p.m. ET 4/10/19.

Docket Numbers: ER19-1386-000.

Applicants: Orange and Rockland Utilities, Inc.

Description: § 205(d) Rate Filing: Attachment J—Municipal Underground Surcharge Revision to be effective 4/1/2019.

Filed Date: 3/20/19.

Accession Number: 20190320-5074.

Comments Due: 5 p.m. ET 4/10/19.

Docket Numbers: ER19-1387-000.

Applicants: ISO New England Inc.

Description: § 205(d) Rate Filing: Ministerial Filing to Conform Tariff Sections to be effective 4/1/2019.

Filed Date: 3/20/19.

Accession Number: 20190320-5106.

Comments Due: 5 p.m. ET 4/10/19.

Docket Numbers: ER19-1388-000.

Applicants: Midcontinent Independent System Operator, Inc.

Description: § 205(d) Rate Filing: 2019-03-20_SA 3276 EDF Renewables—MDU GIA (G359R) to be effective 3/6/2019.

Filed Date: 3/20/19.

Accession Number: 20190320-5112.

Comments Due: 5 p.m. ET 4/10/19.

Docket Numbers: ER19-1389-000.

Applicants: Mid-Atlantic Interstate Transmission, LLC, PJM Interconnection, L.L.C.

Description: § 205(d) Rate Filing: MAIT submits 19 Engineering and Construction Service Agreement to be effective 5/24/2019.

Filed Date: 3/20/19.

Accession Number: 20190320-5114.

Comments Due: 5 p.m. ET 4/10/19

Docket Numbers: ER19-1390-000.

Applicants: Midcontinent Independent System Operator, Inc.

Description: § 205(d) Rate Filing: 2019-03-20_SA 3277 EDF Renewables—OTP FCA (G359R) to be effective 3/6/2019.

Filed Date: 3/20/19.

Accession Number: 20190320-5127.

Comments Due: 5 p.m. ET 4/10/19.

Docket Numbers: ER19-1391-000.

Applicants: Central Hudson Gas & Electric Corporation.

Description: § 205(d) Rate Filing: Revision to FERC Rate Schedule 202 to be effective 3/11/2019.

Filed Date: 3/20/19.

Accession Number: 20190320-5129.

Comments Due: 5 p.m. ET 4/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2019.
Nathaniel J. Davis, Sr.,
Deputy Secretary.

[FR Doc. 2019-05712 Filed 3-25-19; 8:45 am]

BILLING CODE 6717-01-P